EXPORT-IMPORT BANK

[Public Notice: 2024-6095]

Agency Information Collection Activities: Submission to the Office of Management and Budget for Review and Approval; EIB 95-09 Comment Request; Export-Import Bank Letter of Interest Application

AGENCY: Export-Import Bank of the United States.

ACTION: Notice of information collection; request for comment.

SUMMARY: The Export-Import Bank of the United States (EXIM), pursuant to the Export-Import Bank Act of 1945, as amended, facilitates the finance of the export of U.S. goods and services. As part of its continuing effort to reduce paperwork and respondent burden, EXIM invites the general public and other Federal agencies to comment on the proposed information collection, as required by the paperwork Reduction Act of 1995.

DATES: Comments must be received on or before November 12, 2024 to be assured of consideration.

ADDRESSES: Comments may be submitted electronically on www.regulations.gov (EIB 95-09) by email to Donna Schneider, donna.schneider@exim.gov, or by mail to Donna Schneider, Export-Import Bank of the United States, 811 Vermont Ave. NW, Washington, DC 20571. The form can be reviewed at https://img.exim.gov/s3fs-public/pub/pending/EIB+95-09+Letter+of+Interest+Application_08_2024.pdf.

FOR FURTHER INFORMATION CONTACT: To request additional information, please contact Donna Schneider, donna.schneider@exim.gov, 202-565-3612.

SUPPLEMENTARY INFORMATION: The Letter of Interest (LI) is an indication of Export-Import (EXIM) Bank's willingness to consider financing a given export transaction. EXIM uses the requested information to determine the applicability of the proposed export transaction and determines whether to consider financing that transaction.

Title and Form Number: EIB 95-09, Letter of Interest Application.

OMB Number: 3048-0005.

Type of Review: Regular.

Need and Use: The Letter of Interest (LI) is an indication of Export-Import (EXIM) Bank's willingness to consider financing a given export transaction. EXIM uses the requested information to determine the applicability of the proposed export transaction system prompts and determines whether to consider financing that transaction.

Affected Public: This form affects entities involved in the export of U.S. goods and services.

Annual Number of Respondents: 400.

Estimated Time per Respondent: 0.75 hours.

Annual Burden Hours: 300.

Frequency of Reporting of Use: On occasion.

Dated: September 5, 2024.
Andrew Smith,
Records Officer.

[FR Doc. 2024-20379 Filed 9-9-24; 8:45 am]

BILLING CODE 6690-01-P